DEPARTMENT OF TRANSPORTATION

Surface Transportation Board

[STB Finance Docket No. 34461]

Pennsylvania & Southern Railway, LLC—Operation Exemption—Franklin County General Authority

Pennsylvania & Southern Railway, LLC (P&S), a noncarrier, has filed a verified notice of exemption under 49 CFR 1150.31 to operate, pursuant to an agreement with the Franklin County General Authority, a municipal authority in the Commonwealth of Pennsylvania, approximately 25 miles of track and right-of-way and associated property (occupying approximately 1,200 acres of land) located inside the Cumberland Valley Business Park and the Letterkenny Army Depot in Chambersburg, Franklin County, PA.

The transaction was scheduled to be consummated on or about February 1, 2004.

This transaction is related to STB Finance Docket No. 34460, Eyal Shapira—Continuance in Control Exemption—Pennsylvania & Southern Railway, LLC, wherein Eyal Shapira has filed a verified notice of exemption to continue in control of P&S upon its becoming a Class III rail carrier.

If the verified notice contains false or misleading information, the exemption is void ab initio. Petitions to revoke the exemption under 49 U.S.C. 10502(d) may be filed at any time. The filing of a petition to revoke will not automatically stay the transaction.

An original and 10 copies of all pleadings, referring to STB Finance Docket No. 34461, must be filed with the Surface Transportation Board, 1925 K Street, NW., Washington, DC 20423-0001. In addition, a copy of each pleading must be served on John D. Heffner, 1920 N Street, NW., Suite 800, Washington, DC 20036.

Board decisions and notices are available on our Web site at www.stb.dot.gov.

Decided: February 5, 2004.
By the Board, David M. Konschnik, Director, Office of Proceedings.
Vernon A. Williams,
Secretary.

[FR Doc. 04-2939 Filed 2-11-04; 8:45 am]

BILLING CODE 4915-01-P